DEPARTMENT OF COMMERCE

Census Bureau

Proposed Information Collection; 2002 Economic Census Covering the Construction Sector

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before September 14, 2001.

ADDRESSES: Direct all written comments to Madeleine Clayton, Departmental Paperwork Clearance Officer, Department of Commerce, Room 6086, 14th and Constitution Avenue, NW., Washington, DC 20230 (or via the Internet at MClayton@doc.gov).

FOR FURTHER INFORMATION CONTACT: Requests for additional information or copies of the information collection instrument(s) and instructions should be directed to Patricia L. Horning, U.S. Census Bureau, Manufacturing and Construction Division, (301) 457-4680, Room 2229, Building #4, Washington, DC 20233 (or via the Internet at patricia.l.horning@census.gov).

SUPPLEMENTARY INFORMATION:

I. Abstract

The Census Bureau is the preeminent collector and provider of timely, relevant and quality data about the people and economy of the United States. Economic data are the Census Bureau's primary program commitment during nondecennial census years. The economic census, conducted under authority of Title 13, United States Code, is the primary source of facts about the structure and functioning of the Nation's economy and features unique industry and geographic detail. Economic census statistics serve as part of the framework for the national accounts and provide essential information for government, business and the general public. The 2002 Economic Census Covering the Construction Sector (as defined by the North American Industry Classification System (NAICS) is a sample survey that will measure the economic activity of almost 700,000 establishments engaged in building construction and land subdivision and land development, heavy construction (except buildings), such as highways, power plants, pipelines; and construction activity by special trade contractors.

The information collected from businesses in this sector of the economic census will produce basic statistics by industry for number of establishments, value of construction work, payroll, employment, selected costs, depreciable assets, inventories, and capital expenditures. It also will yield a variety of subject statistics, including estimates of type of construction work done, kind of business activity, size of establishments and other industry-specific measures.

Primary strategies for reducing burden in Census Bureau economic data collections are to increase electronic reporting through broader use of computerized self-administered census questionnaires, on-line questionnaires and other electronic data collection methods.

II. Method of Collection

The construction industry sector of the economic census will select establishments for its mail canvass from a frame given by the Census Bureau's Business Register. To be eligible for selection, an establishment will be required to satisfy the following conditions: (i) It must be classified in the construction industry sector; (ii) it must be an active operating establishment of a multi-establishment firm, or it must be a single-establishment firm with payroll; and (iii) it must be located in one of the 50 states or the District of Columbia. Mail selection procedures will distinguish the following groups of establishments:

A. Establishments of Multi-Establishment Firms

Selection procedures will assign all active construction establishments of multi-establishment firms to the mail component of the potential respondent universe. We estimate that the mail canvass for the 2002 construction sector will include approximately 11,000 establishments of multi-establishments firms.

B. Single-Establishment Firms with Payroll

As an initial step in the selection process, we will conduct a study of the potential respondent universe for construction industries. The entire set of eligible single-establishment firms will be considered for inclusion in the mail canvass. Sampling strata and corresponding probabilities of selection will be determined by this study conducted shortly before mail selection operations begin.

One of the primary goals is to produce reliable State level estimates for each NAICS industry. We will use a stratified random sample strategy for selecting the sample of single-establishments firms. The population of eligible single-establishment firms will be partitioned into State by NAICS groupings. Within each group, we will further sub-divide the population into a minimum of two strata based on the annualized payroll of the firms within these groupings. Independent random samples will be selected for each stratum. The total sample size for each State by NAICS cell will be determined based on the reliability constraint for the cell and any additional U.S. level reliability constraints for the industry. The impact of the multi-establishment firms in producing the estimates will be factored into determining the sample sizes for the single-establishment firms. We estimate that the census mail canvass 2002 will include approximately 159,000 establishments.

There is some uncertainty associated with the new 2002 NAICS classification for the construction sector on the Census Bureau's Business Register. The number of single-establishment firms selected in the sample is dependent upon conducting the Census Bureau's classification refile operation in 2001 (see Federal Register Notice dated January 30, 2001, 2002 Economic Census Construction Refile Survey). The refile operation will significantly increase the accuracy of the 2002 NAICS classification of construction firms on the Business Register. When the refile operation is conducted, the number of single-establishment construction firms included in the mail canvass needed to produce reliable estimates for the 2002 Economic Census on a State by NAICS basis will be reduced from the estimated 159,000 to approximately 119,000.

III. Data

OMB Number: Not available.

Form Number: The 13 forms used to collect information from businesses in this sector of the economic census are tailored to specific business practices and are too numerous to list separately in this notice. You can obtain information on the proposed content of the forms by calling Patricia L. Horning on (301) 457-4680 (or via the Internet at patricia.l.horning@census.gov).

Type of Review: Regular review.

Affected Public: Businesses or other for profit, non-profit institutions or organizations, and State or Local Governments.

Estimated Number of Respondents: 170,000.

Estimated Time Per Response: 2.4 hours.

Estimated Total Annual Burden Hours: 408,000.

Estimated Total Annual Cost: $6,250,560.

Respondent's Obligation: Mandatory.

Legal Authority: Title 13, United States Code, Sections 131 and 224.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 10, 2001.
Madeleine Clayton,
Departmental Paperwork Clearance Officer, Office of the Chief Information Officer.

[FR Doc. 01-17638 Filed 7-13-01; 8:45 am]

BILLING CODE 3510-07-P